DEPARTMENT OF JUSTICE

Bureau of Alcohol, Tobacco, Firearms and Explosives

[Docket No. ATF 17N; ATF O 1150.13]

Delegation Order—Designation of Acting Supervisory Officials

1. Purpose. The purpose of this delegation order is to grant supervisors authority to designate acting supervisory officials of the Bureau of Alcohol, Tobacco, Firearms and Explosives (ATF).

2. Cancellations. ATF O 1100.9A, Delegation Order—Designation of Acting Supervisory Officials dated October 7, 1980 and ATF F 1100.1, Temporary Assignment Designation.

3. Authorities. Pursuant to authorities vested in the Director, ATF, by Title 6 U.S.C. 531 and 28 CFR O.130-0.133.

4. Designations.

a. An official e-mail notification is required for supervisors to designate a subordinate employee to act in the event of their absence or in a subordinate supervisory position in which such position becomes vacant. At a minimum, the official e-mail notification must be sent to individuals who report directly to the supervisor; the individual to whom the supervisor reports; and any other individual(s) who need to be advised. An official e-mail notification is not required if there exists a document or order that designates a temporary acting official.

b. In the event of an emergency, ATF O 1100.59G, Delegation Order—Emergency Order of Succession and Delegation of Authority, designates the order of succession for Acting Director to ensure the continuity of Bureau functions. Under these circumstances no e-mail notification is required.

5. Retention Requirements. Acting designations must be retained in accordance with ATF O 1345.1, Records Management Program and Records Control Schedule 101, item 2 (Headquarters) and ATF Records Control Schedule 201, item 1 (Field).

6. Redelegation. The authority to designate acting supervisory officials is delegated to all Bureau personnel in supervisory positions and may not be redelegated.

7. Questions. Questions regarding this delegation order may be addressed to the Chief, Document Services Branch at (202) 927-8930.

Dated: February 18, 2005.
Carl J. Truscott,
Director.

[FR Doc. 05-4606 Filed 3-8-05; 8:45 am]

BILLING CODE 4410-FY-P